DEPARTMENT OF COMMERCE

National Oceanic and Atmospheric Administration

RIN 0648-XE058

Fisheries of the South Atlantic; South Atlantic Fishery Management Council; Public Hearings

AGENCY: National Marine Fisheries Service (NMFS), National Oceanic and Atmospheric Administration (NOAA), Commerce.

ACTION: Notice of public hearings.

SUMMARY: The South Atlantic Fishery Management Council (Council) will hold public hearings in North Carolina, South Carolina and Florida and a Question and Answer Webinar for Regulatory Amendment 16 to the Snapper Grouper Fishery Management Plan for the South Atlantic. The Council will also hold public hearings in North Carolina, South Carolina, Georgia, and Florida and a Question and Answer Webinar for Amendment 36 to the Snapper Grouper Fishery Management Plan for the South Atlantic. See SUPPLEMENTARY INFORMATION.

DATES: The public hearings will be held between August 10 and August 25, 2015. There will be a question and answer webinar on August 3 and August 5, 2015. Please see SUPPLEMENTARY INFORMATION for specific details.

ADDRESSES: The hearings for Snapper Grouper Regulatory Amendment 16 will be held in Little River, SC, Jacksonville, NC, Ormond Beach, FL. The hearings for Snapper Grouper Amendment 36 will be held in North Charleston, SC, Murrells Inlet, SC, Morehead City, NC, Brunswick, GA and Daytona Beach, FL, with an additional hearing being held via webinar. Please see SUPPLEMENTARY INFORMATION for specific locations.

FOR FURTHER INFORMATION CONTACT: Kim Iverson, Public Information Officer, South Atlantic Fishery Management Council, 4055 Faber Place Drive, Suite 201, N. Charleston, SC 29405; phone: (843) 571-4366 or toll free (866) SAFMC-10; fax: (843) 769-4520; email: kim.iverson@safmc.net.

SUPPLEMENTARY INFORMATION: The hearings on Snapper Grouper Regulatory Amendment 16 will take place August 11 (Little River, SC), August 12 (Jacksonville, NC), and August 17 (Ormond Beach, FL). The Question and Answer Webinar for Snapper Grouper Regulatory Amendment 16 will be on Monday, August 3, 2015.

The public hearings for Snapper Grouper Amendment 36 will take place August 10 (N. Charleston, SC), August 12 (Murrells Inlet, SC), August 13 (Morehead City, NC), August 18 (Webinar hearing), August 24 (Brunswick, GA), and August 25 (Daytona Beach, FL). The Question and Answer Webinar for Snapper Grouper Amendment 36 will be on Monday, August 5, 2015.

Snapper Grouper Regulatory Amendment 16 (black sea bass pots)

The Q&A Session for Regulatory Amendment 16 will begin at 6 p.m. on Monday, August 3, 2015. Registration is required and registration information will be posted on the Council's Web site at www.safmc.net as it becomes available.

Public Hearings for Snapper Grouper Regulatory Amendment 16 begin at 4 p.m. in the following locations:

1. August 11, 2015: Holiday Inn Express, 722 Highway 17, Little River, SC 29566; phone: (843) 281-9400.

2. August 12, 2015: Comfort Suites, 130 Workshop Lane, Jacksonville, NC 28546; phone: (910) 346-8900.

3. August 17, 2015: Hull's Seafood Market/Restaurant, 111 West Granada Blvd., Ormond Beach, FL 32174; phone: (386) 677-1511.

Snapper Grouper Amendment 36 (Spawning SMZs)

The Q&A Session for Snapper Grouper Amendment 36 will begin at 6 p.m. on Monday, August 5, 2015. Registration is required and registration information will be posted on the Council's Web site at www.safmc.net as is becomes available.

Public Hearings for Snapper Grouper Amendment 36 begin at 4 p.m. in the following locations:

1. August 10, 2015: Hilton Garden Inn, 5265 International Blvd., N. Charleston, SC 29418; phone: (843) 308-9330.

2. August 12, 2015: Murrells Inlet Community Center, 4462 Murrells Inlet Road, Murrells Inlet, SC 29576; phone: (843) 651-7373.

3. August 13, 2015: NC Division of Marine Fisheries, Central District Office, 5285 Highway 70 West, Morehead City, NC 28557; phone: (252) 726-7021.

4. August 18, 2015: Public Hearing via webinar—registration for the webinar is required. Information regarding registration will be posted on the Council's Web site at www.safmc.net.

5. August 24, 2015: Georgia Dept. of Natural Resources, Coastal Resources Division, One Conservation Way, Brunswick, GA 31520-8687; phone: (912) 264-7218.

6. August 25, 2015: Hilton Garden Inn—Daytona Beach Airport, 189 Midway Ave., Daytona Beach, FL 32114; phone: (386) 944-4000.

Snapper Grouper Regulatory Amendment 16

Snapper Grouper Regulatory Amendment 16 has two actions. The first action is to consider options for opening the commercial South Atlantic black sea bass pot fishery from November 1 through April 30 while still providing protection for ESA listed whales during that period. The second action has alternatives that would require modifications to black sea bass pot gear such as reducing buoy line and weak link strength, as well as require markings that would identify gear as being specific to the South Atlantic black sea bass pot fishery. Background information regarding Snapper Grouper Regulatory Amendment 16, including a public hearing draft of the document, a document summary, and a PowerPoint presentation will be posted to the South Atlantic Fishery Management Council's Web site www.safmc.net no later than 5 p.m. on July 30, 2015. In addition to making public comments in person, interested persons can make comments via email or U.S. mail no later than 5 p.m. on August 21, 2015. Email comments may be sent to: Mike.Collins@safmc.net. Please include the words “Regulatory Amendment 16” in the subject line of the email. Comments submitted by U.S. mail should be sent to: Robert K. Mahood, Executive Director, South Atlantic Fishery Management Council, 4055 Faber Place Drive, Suite 201, North Charleston, SC 29405.

Snapper Grouper Amendment 36

Snapper Grouper Amendment 36 has nine actions. Action 1 modifies the Special Management Zone (SMZ) procedures to include protection of natural bottom; Action 2 modifies the framework procedure to allow modification of and/or additional Spawning SMZs; Actions 3-7 includes alternatives to establish Spawning SMZs off NC, SC, GA, and FL where fishing for snapper grouper species would be prohibited, however, fishing for other species (e.g., billfish, tunas, mackerels) would be allowed; Action 8 would establish transit and anchoring provisions; and Action 9 would add a “sunset provision” for Spawning SMZs after 10 years if not reauthorized. Background information regarding Snapper Grouper Amendment 36, including a public hearing draft of the document, a document summary, and a PowerPoint presentation will be posted to the Council's Web site (www.safmc.net) no later than 5 p.m. on July 30, 2015. Written comments will also be accepted via email or U.S. mail until 5 p.m. on August 31, 2015. Email comments to: Mike.Collins@safmc.net. Please include the words “Amendment 36” in the subject line of the email. Comments submitted by U.S. mail should be sent to: Robert K. Mahood, Executive Director, South Atlantic Fishery Management Council, 4055 Faber Place Drive, Suite 201, North Charleston, SC 29405.

Special Accommodations

These hearings are physically accessible to people with disabilities. Requests for auxiliary aids should be directed to the council office (see ADDRESSES) 3 days prior to the meeting.

Note: The times and sequence specified in this agenda are subject to change.

Dated: July 14, 2015.
Tracey L. Thompson,
Acting Deputy Director, Office of Sustainable Fisheries, National Marine Fisheries Service.

[FR Doc. 2015-17650 Filed 7-17-15; 8:45 am]

BILLING CODE 3510-22-P